EXPORT-IMPORT BANK OF THE UNITED STATES

Sunshine Act; Meeting

ACTION: Notice of a partially open meeting of the Board of Directors of the Export-Import Bank of the United States.

TIME AND PLACE: Thursday, September 23, 2004 at 9:30 a.m. The meeting will be held at Ex-Im Bank in Room 1141, 811 Vermont Avenue, NW., Washington, DC 20571.

OPEN AGENDA ITEM: PEFCO Secured Note Issues Resolutions.

PUBLIC PARTICIPATION: The meeting will be open to public participation for Item No. 1 only.

FOR FURTHER INFORMATION CONTACT: For further information, contact: Office of the Secretary, 811 Vermont Avenue, NW., Washington, DC 20571 (Telephone No. (202) 565-3957).

Peter B. Saba,
General Counsel.

[FR Doc. 04-21236 Filed 9-16-04; 3:46 pm]

BILLING CODE 6690-01-M